DEPARTMENT OF HEALTH AND HUMAN SERVICES

Request for Information (RFI): HHS Initiative To Strengthen Primary Health Care

AGENCY: Office of the Assistant Secretary for Health, Office of the Secretary, Department of Health and Human Services.

ACTION: Notice of Request for Information.

SUMMARY: U.S. Department of Health and Human Services (HHS) Office of the Assistant Secretary for Health (OASH) requests input from persons, communities, health care providers, purchasers and payers, educators, researchers, and other members of the public about what the federal government could do to strengthen primary health care in the United States. Improving access to health care, advancing health equity, and improving the health of the Nation are top priorities for the Biden-Harris Administration and HHS. Access to high-quality primary health care has been shown to improve health equity and health outcomes, and is essential for addressing key priorities, including: the COVID-19 pandemic; mental and substance use disorder prevention and care, including suicide and overdose prevention; prevention and management of chronic conditions; gender-based violence; and maternal and child health and well-being. However, our nation's primary health care foundation is weakening and in need of support: primary health care is under-resourced; the workforce is shrinking; workforce well-being is in peril; and many practices face reimbursement challenges that may result in financial instability. The HHS Initiative to Strengthen Primary Health Care (the Initiative) aims to establish a federal foundation for the provision of primary health care for all that supports improved health outcomes and advanced health equity. The first task is to develop an initial HHS plan for strengthening primary health care that will delineate specific actions that HHS agencies and offices may take to achieve the aims, within the current legislation and funding environment. In addition, the plan will include actions that establish an infrastructure in HHS to continue its focus on strengthening primary health, developing subsequent HHS plans that build on the initial plan, and monitoring progress and impact. The purpose of this RFI is to provide OASH with diverse perspectives, experiences, and knowledge that may inform the development of the initial plan for HHS, as well as future steps for the Initiative. OASH seeks information about successful approaches and innovations that improve primary health care payment, delivery models, service integration, access, workforce education, training and well-being, digital health and primary care measurement and research. OASH also seeks information about barriers to implementation of such innovations and how they could be overcome, including specific ideas for possible HHS action. OASH encourages respondents to address health equity, and is particularly interested in information from community-based settings, such as public housing, personal homes, group homes, and assisted living facilities where older adults and people with disabilities may live, and about populations traditionally underserved by current primary health care.

DATES: To be assured consideration, comments must be received at the email address provided below, no later than 11:59 p.m. Eastern Time (ET) on August 1, 2022. HHS will not reply individually to responders but will consider all comments submitted by the deadline.

ADDRESSES: Please submit all responses via email to OASHPrimaryHealthCare@hhs.gov as a Word document attachment or in the body of an email. Include “Primary Health Care RFI” in the subject line of the email.

FOR FURTHER INFORMATION CONTACT: For additional information, direct questions to the OASH Primary Health Care Team at OASHPrimaryHealthCare@hhs.gov or Sarah Boateng at (202) 401-7003.

SUPPLEMENTARY INFORMATION: Instructions: Response to this RFI is voluntary. Each responding entity (person or organization) is requested to submit only one response. OASH welcomes responses to inform policies and actions to strengthen primary health care. Respond to one or as many prompts as you choose. Be concise with your submissions, which must not exceed four pages in 12-point or larger font, with a page number provided on each page. Responses should include the name of the person(s) or organization(s) filing the comment.

OASH invites input from members of the public representing all backgrounds and perspectives. In particular, OASH is interested in input from individuals; paid and unpaid caregivers; communities; community-based organizations; health care providers (please state discipline and specialty, as appropriate); professional societies; community health centers and Rural Health Clinics; state, local, tribal, and territorial governments and public health departments; educators; academic researchers; global partners; health insurance payers and purchasers; health technology developers; and policy experts. Examples of health care providers include, but are not limited to: family medicine, internal medicine, pediatrics, and obstetrics and gynecology physicians; physician assistants; nurse practitioners; nurse midwives; nurses; behavioral health providers; oral health providers; medical/surgical specialists; community health workers; social workers; care coordinators; telehealth navigators; peer recovery specialists; provider practices; and health care systems.

Indicate which of these stakeholder types best fits you as a respondent, if applicable. If a comment is submitted on behalf of an organization, the individual respondent's role in the organization may also be provided. Comments containing references, studies, research, and other empirical data that are not widely published should include copies or electronic links of the referenced materials. No business proprietary information, copyrighted information, or personally identifiable information should be submitted in response to this RFI. Comments submitted in response to this RFI may be posted on HHS websites or otherwise released publicly.

Responses to this notice are not offers and cannot be accepted by the Federal Government to form a binding contract. Additionally, those submitting responses are solely responsible for all expenses associated with response preparation.

Background: The HHS Initiative to Strengthen Primary Health Care aims to establish a federal foundation that supports advancement toward a goal state of the practice of primary health care. In its goal state, the practice of primary health care:

• Supports health and wellness through sustained partnerships with patients, families, and their communities;

• Equitably provides first contact access to all, as well as whole person, comprehensive care over time, using interprofessional teams; and

• Coordinates and integrates care across systems, including other health care providers, public health, and community-based health promotion and social service organizations.

To achieve this goal state, actions and resources addressing financial, legislative, workforce, public health, technology and data sharing, and community-based factors are required.

The Initiative was launched in September 2021 by the Office of the Assistant Secretary of Health (OASH), under the leadership of Assistant Secretary for Health, Admiral Rachel Levine. The first task of the Initiative is to develop an initial Department of Health and Human Services (HHS) two to three year plan for strengthening primary health care that will delineate specific actions that HHS agencies and offices may take to advance toward the goal state of primary health care, defined above. In addition, the plan will include actions that establish an infrastructure in HHS to continue its focus on strengthening primary health, including developing subsequent HHS plans that build on the initial plan, and monitoring progress and impact. The recently released National Academies of Sciences, Engineering, and Medicine (NASEM) report, Implementing High-Quality Primary Care: Rebuilding the Foundation of Health Care,¹ which was developed in part with resources provided by HHS, will inform the development of the HHS Plan. This report organizes recommended actions using five domains: payment, access, workforce, digital health, and accountability. OASH is working with HHS agency partners and with other federal departments to develop the HHS plan. These efforts will also be informed by feedback from external stakeholders and subject matter experts, including patients, families, providers, researchers, and communities, to learn about innovative approaches, needs and challenges, to inform the HHS plan. This RFI will ensure that OASH has obtained broad input, and will inform the initial HHS plan and subsequent plans.

¹ National Academies of Sciences, Engineering, and Medicine. 2021. Implementing High-Quality Primary Care: Rebuilding the Foundation of Health Care. Washington, DC: The National Academies Press.

Scope and terminology: OASH invites input from all interested members of the public as outlined in the instructions. OASH encourages input from traditionally underserved populations. Definitions are provided for four of the key concepts of the goal state of primary health care (see above) that may have variable interpretations.

• Whole person care: Whole person care requires an understanding of the physical, mental, emotional, and spiritual health and wellness goals of the individual/family served and the context in which they live and work, and is facilitated by goal-oriented care plans developed with the patient and primary health care team through shared decision making.

• Integrated care: Integrated care expands the health team by bringing primary health care together with behavioral health (mental health and substance use disorder services), oral health, public health, and social and other services and partnerships to optimize access, coordination of care, and health outcomes.

• Interprofessional teams: Integrated care requires the expertise of interprofessional teams and their coordination of care. Interprofessional team composition is not predetermined or fixed, instead personalized to meet the needs of the individual and family served.

• Community participation, self-reliance, and resilience: Primary health care practices can support communities' capacities to achieve self-reliance and resilience by working as a member of the community to strengthen the health and wellness of individuals, families, and the communities in which they live.

Information Requested: Respondents may provide information for one or as many topics below as they choose. OASH welcomes information about innovations, models, solutions to barriers, and possible HHS actions that may strengthen primary health care to promote health equity, reduce health disparities, improve health care access, and improve health outcomes. Strengthening primary health care requires the coordination of many partners. Recommendations for collaboration across HHS and between HHS and other federal departments are welcome.

1. Successful models or innovations that help achieve the goal state for primary health care, defined above: Describe models or example innovations that are advancing the health of individuals and communities through strengthened primary health care, summarize evidence demonstrating impact, and provide resources, as appropriate. OASH is interested in action steps that will produce sustainable change, in addition to pilot programs. Share implementation approaches and lessons learned. Your response may address but need not be limited to: examples of new payment models; actions that support the integration of primary health care with other elements of the health care systems (e.g., specialty care including behavioral health care, oral health, hospitals, health systems); actions that support integration of primary health care with prevention specialists (e.g., Drug-Free Communities Coalitions, Community Health Workers, Peer Support Specialists) in work to reduce risk factors and increase protective factors associated with substance use and mental conditions; primary health care integration with other clinical services and public health; primary health care integration with community-based organizations to provide social services to patients; interprofessional education strategies; expanded and effective use of health information technology (IT); strategies to expand primary health care research and its impact; and measures of primary health care spending, access, quality, and impact.

2. Barriers to implementing successful models or innovations: Describe current barriers to implementing innovations or improvements that would strengthen primary health care, to improve the health of individuals, families and communities. Also, consider barriers to advancing primary health care research, as well as barriers to inclusive services and those targeting youth. For each barrier, you may provide evidence-based or proposed solutions.

3. Successful strategies to engage communities: Describe models, approaches or frameworks that HHS could use to obtain ongoing input from individuals, caregivers, and communities on HHS actions to strengthen primary health care and their implementation (i.e., community engagement strategies), acknowledging the different approaches necessary to obtain perspectives from youth and adults. Populations of focus are those traditionally underserved by health care, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality. Additional populations of interest are people experiencing homelessness; non-US-born persons; individuals experiencing gender-based violence; individuals with chronic illness; older adults and people with disabilities; individuals with mental and substance use disorders; and people who have had interactions with the criminal justice system. Share implementation approaches for community engagement strategies and lessons learned.

4. Proposed HHS actions: Identify specific actions that HHS may take to advance the health of individuals, families, and communities through strengthened primary health care. Examples include, but are not limited to: steps to implement and scale new payment models and reimbursement approaches, including revising the Physician Fee Schedule, Relative Value Units, and Current Procedural Terminology codes and advancing value-based care; increasing payer and national investment in primary health care and measuring/monitoring spending on primary care; support for service integration, including integration of primary health care and public health; and enabling care for complex needs by integrating behavioral, oral, and primary health care and integrating access to social services and primary health care through partnerships; support for primary health care workforce well-being; policy and programmatic proposals for health workforce programs to address workforce shortages, geographic maldistribution and to improve workforce diversity; support for primary health care workforce education and training; interprofessional education; new technical assistance needed; advancing the use of certified health IT and interoperability of electronic health information across the care continuum; primary health care research infrastructure and investment; and measurement and stewardship of primary health care. Specify what barrier the opportunity addresses, and the realistic timing for implementation: less than two years, two to five years, and six to 10 years.

Dated: June 15, 2022.
Judith Steinberg,
Senior Advisor, Office of the Assistant Secretary for Health, Department of Health and Human Services.

[FR Doc. 2022-13632 Filed 6-24-22; 8:45 am]

BILLING CODE 4150-28-P